DEPARTMENT OF THE INTERIOR

Bureau of Land Management

[MT-LLB05000-LL14300000-FQ0000; MTM 40412]

Public Land Order No. 7792; Partial Revocation, Power Site Reserve No. 109; Montana

Correction

In notice document 2012-18888 appearing on pages 46111-46112 of the issue of Thursday, August 2, 2012 make the following correction:

On page 46112, in the first column, in the 8th line from the top of the page, “Sec. 5, NE¼; SW¼.” should read “Sec. 5, NE¼SW¼.”.

[FR Doc. C1-2012-18888 Filed 8-30-12; 8:45 am]

BILLING CODE 1505-01-D